DEPARTMENT OF JUSTICE

National Institute of Justice

[OMB Number 1121-0234]

Office of Justice Programs; Agency Information Collection Activities; Proposed Collection; Comment Requested

ACTION: 30-Day Notice of Information Collection under Review: Extension of a Currently Approved Collection, Requirements Data Collection Application for the Juvenile Accountability Incentive, Block Grants Program.

The Department of Justice, Office of Justice Programs will be submitting the following information collection request to the Office of Management and Budget (OMB) for review and approval in accordance with the Paperwork Reduction Act of 1995. The proposed information collection is published to obtain comments from the public and affected agencies. This proposed information collection was previously published in the Federal Register Volume 75, Number 221, page 70290-70291, on November 17, 2010, allowing for a 60 day comment period.

The purpose of this notice is to allow for an additional 30 days for public comment until February 24, 2011. This process is conducted in accordance with 5 CFR 1320.10.

To ensure that comments on the information collection are received, OMB recommends that written comments be faxed to the Office of Information and Regulatory Affairs, OMB, Attn: DOJ Desk Officer, Fax: 202 395-7285, or e-mailed to oira_submission@omb.eop.gov. All comments should be identified with the OMB control number [1121-0234]. Also include the DOJ docket number found in brackets in the heading of this document.

Written comments and suggestions from the public and affected agencies concerning the proposed collection of information are encouraged. Your comments should address one or more of the following four points:

—Evaluate whether the proposed collection of information is necessary for the proper performance of the functions of the agency, including whether the information will have practical utility;

—Evaluate the accuracy of the agencies' estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g. permitting electronic submission of responses.

Overview of this information collection:

Type of Information Collection

(1) Extension of a Currently Approved Collection.

(2) Title of the Forms/Collection: Requirements Data Collection Application for the Juvenile Accountability. Incentive Block Grants Program.

(3) The agency form number, if any, and the applicable component of the Department sponsoring the collection: N/A.

(4) Affected public who will be asked or required to respond are: Prosecutors, Law Enforcement Officials, and Forensic Laboratory personnel from agencies within the jurisdiction represented by the grantees.

The National Institute of Justice uses this information to assess the impacts and cost-effectiveness of the Forensic Casework DNA Backlog Programs over time and to diagnose performance problems in current casework programs. This evaluation will help decision makers be better informed to not only diagnose program performance problems, but also to better understand whether the benefits of DNA collection and testing is in fact an effective public safety and crime control practice.

(1) An estimate of the total number of respondents and the amount of time needed for an average respondent to respond is broken down as follows:

Law Enforcement—200 respondents, average burden time 120 minutes—400 hours total.

Prosecutors—200 respondents, average burden time 90 minutes—300 hours total.

Lab personnel—135 respondents average burden 120 minutes—270 hours total.

(2) An estimate of the total public burden (in hours) associated with the collection:

The estimated total public burden associated with this collection is 970 hours.

If additional information is required contact: Lynn Murray, Department Clearance Officer, United States Department of Justice, Planning and Policy Staff, Justice Management Division, 145 N Street, NE., Suite 2E-502, Washington, DC 20530.

Dated: January 19, 2011.
Lynn Murray,
Department Clearance Officer, United States Department of Justice.

[FR Doc. 2011-1446 Filed 1-24-11; 8:45 am]

BILLING CODE 4410-18-P